DEPARTMENT OF COMMERCE

International Trade Administration

[A-489-501]

Circular Welded Carbon Steel Standard Pipe and Tube Products From the Republic of Türkiye: Final Results of Antidumping Duty Administrative Review; 2022-2023

AGENCY: Enforcement and Compliance, International Trade Administration, Department of Commerce.

SUMMARY: The U.S. Department of Commerce (Commerce) determines that sales of circular welded carbon steel standard pipe and tube products from the Republic of Türkiye (Türkiye) were made at less than normal value (NV) during the period of review (POR) May 1, 2022, through April 30, 2023.

DATES: Applicable March 17, 2025.

FOR FURTHER INFORMATION CONTACT: Paul Kebker, AD/CVD Operations, Office IV, Enforcement and Compliance, International Trade Administration, Department of Commerce, 1401 Constitution Avenue NW, Washington, DC 20230; telephone: (202) 482-2254.

SUPPLEMENTARY INFORMATION:

Background

On June 6, 2024, Commerce published the Preliminary Results and invited interested parties to comment.¹ On July 22, 2024, Commerce tolled certain deadlines in this administrative proceeding by seven days.² On September 18, 2024, Commerce extended the deadline for the final results by 60 days.³ On December 9, 2024, Commerce tolled certain deadlines in this administrative review by 90 days.⁴ As a result, the deadline for these final results of review is March 10, 2025.

¹ See Circular Welded Carbon Steel Standard Pipe and Tube Products from Türkiye: Preliminary Results of Antidumping Duty Administrative Review; 2022-2023, 89 FR 48374 (June 6, 2024) (Preliminary Results), and accompanying Preliminary Decision Memorandum (PDM).

² See Memorandum, “Tolling of Deadlines for Antidumping and Countervailing Duty Proceedings,” dated July 22, 2024.

³ See Circular Welded Carbon Steel Standard Pipe and Tube Products from Turkey: Extension of Deadline for Final Results of Antidumping Duty Administrative Review, dated September 18, 2024.

⁴ See Memorandum, “Tolling of Deadline for Antidumping and Countervailing Duty Proceedings,” dated December 9, 2024.

This administrative review covers one exporter of subject merchandise. The sole mandatory respondent in this administrative review is Borusan Birlesik Boru Fabrikalari Sanayi ve Ticaret A.S. (Borusan Boru) ⁵ and Borusan Istikbal Ticaret T.A.S. (Istikbal) (collectively, Borusan).⁶ On November 8, 2024, Borusan submitted a case brief.⁷ On November 14, 2024, Wheatland Tube (Wheatland), a domestic producer and interested party, submitted a rebuttal brief.⁸ Commerce is conducting this administrative review in accordance with section 751(a)(1)(B) of Tariff Act of 1930, as amended (the Act).

⁵ Commerce conducted a changed circumstances review and determined that Borusan Birlesik Boru Fabrikalari Sanayi ve Ticaret A.S. is the successor-in-interest to Borusan Mannesmann Boru Sanayi ve Ticaret A.S. in the context of the AD order on CWP from Türkiye. See Circular Welded Carbon Steel Standard Pipe and Tube Products from the Republic of Türkiye; Welded Line Pipe from the Republic of Türkiye; Certain Oil Tubular Goods from the Republic of Türkiye; and Large Diameter Welded Pipe from the Republic of Türkiye: Final Results of Antidumping Duty Changed Circumstances Reviews, 89 FR 96211 (December 4, 2024).

⁶ See Initiation of Antidumping and Countervailing Duty Administrative Reviews, 88 FR 44262 (July 12, 2023)

⁷ See Borusan's Letter, “BMB's Case Brief,” dated November 7, 2024.

⁸ See Wheatland's Letter, “Rebuttal Brief,” dated November 14, 2024.

Scope of the Order ⁹

⁹ See Antidumping Duty Order; Welded Carbon Steel Standard Pipe and Tube Products from Turkey, 51 FR 17784 (May 15, 1986) (Order).

The scope of the Order covers circular welded carbon steel standard pipe and tube products from Türkiye. A full description of the scope of the Order is contained in the Issues and Decision Memorandum.¹⁰

¹⁰ See Memorandum, “Issues and Decision Memorandum for the Final Results of the Antidumping Duty Administrative Review ofCircular Welded Carbon Steel Standard Pipe and Tube Products from the Republic of Türkiye; 2022-2023,” dated concurrently with, and hereby adopted by, this notice (Issues and Decision Memorandum).

Analysis of Comments Received

All issues raised in the case and rebuttal briefs filed by parties are addressed in the Issues and Decision Memorandum. A list of the issues addressed in the Issues and Decision Memorandum provided in in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of the comments received, and for the reasons explained in the Issues and Decision Memorandum, we made certain changes from the Preliminary Results.

Final Results of Administrative Review

For these final results, we determine that the following estimated weighted-average dumping margins exist for the period May 1, 2022, through April 30, 2023:

Producer/exporter | Weighted- average dumping margin (percent)
Borusan Mannesmann Boru Sanayi ve Ticaret A.S./Borusan Istikbal Ticaret T.A.S ¹¹ | 2.75

Disclosure

¹¹ In prior segments of this proceeding, we treated Borusan Mannesmann Boru Sanayi ve Ticaret A.S. and Borusan Istikbal Ticaret T.A.S. as a single entity. See, e.g., Welded Carbon Steel Standard Pipe and Tube Products from Turkey: Final Results of Antidumping Duty Administrative Review and Final Determination of No Shipments; 2013-2014, 80 FR 76674 (December 10, 2015). There is no information on this record to merit reconsideration of our treatment of Borusan Mannesmann Boru Sanayi ve Ticaret A.S. and Borusan Istikbal Ticaret T.A.S. as a single entity.

Commerce intends to disclose the calculations performed in connection with these final results of review to parties in this review within five days after public announcement of the final results or, if there is no public announcement, within five days of the date of publication of this notice in the Federal Register, in accordance with 19 CFR 351.224(b).

Assessment Rates

Pursuant to section 751(a)(2)(C) of the Act and 19 CFR 351.212(b)(1), Commerce has determined in these final results of this review, and U.S. Customs and Border Protection (CBP) shall assess antidumping duties on all appropriate entries of subject merchandise in during the POR. Pursuant to 19 CFR 351.212(b)(1), we calculated importer-specific ad valorem duty assessment rates based on the ratio of the total amount of dumping calculated for examined sales to each importer to the total entered value of those sales. Where an importer-specific assessment rate is zero or de minimis within the meaning of 19 CFR 351.106(c)(1), we will instruct CBP to liquidate the appropriate entries without regard to antidumping duties. Pursuant to a refinement to Commerce's assessment practice, for subject merchandise that was entered into the United States, or withdrawn from warehouse, for consumption during the POR, that was produced or exported by Borusan for which Borusan did not report the sale in its U.S. sales database, we will instruct CBP to liquidate the entry of such merchandise at the all-others rate (i.e., 14.74 percent) ¹² if there is no rate for the intermediate company(ies) involved in the transaction.¹³

¹² See Order, 51 FR at 17784.

¹³ See Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of this notice in the Federal Register, as provided by section 751(a)(2)(C) of the Act: (1) the cash deposit rate for companies subject to this review will be equal to the weighted-average dumping margin listed in the “Final Results of Review” section above; (2) for merchandise that was exported by a company that is not under review and the company has a company-specific cash deposit rate from a completed segment of this proceeding, the cash deposit rate will continue to be the company-specific cash deposit rate from a completed segment of the proceeding that is currently applicable to the company; (3) if the exporter of the subject merchandise was not covered by this review or a previously completed segment of this proceeding, but the producer of the subject merchandise was covered, then the cash deposit rate will be equal to the company-specific cash deposit rate from a completed segment of this proceeding that is currently applicable to the producer of the subject merchandise; and (4) if neither the exporter nor the producer of the subject merchandise was covered by this review or a previously completed segment of this proceeding, then the cash deposit rate will be 14.74 percent ad valorem, the all-others rate established in the less than fair value investigation.¹⁴ These cash deposit requirements, when imposed, shall remain in effect until further notice.

¹⁴ See Order, 51 FR at 17784.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Administrative Protective Order

This notice also serves as a reminder to parties subject to administrative protective order (APO) of their responsibility concerning the destruction or return of proprietary information disclosed under APO in accordance with 19 CFR 351.305(a)(3), which continues to govern business proprietary information in this segment of the proceeding. Timely written notification of the destruction or return of APO materials or conversion to judicial protective order is hereby requested. Failure to comply with the regulations and terms of an APO is a sanctionable violation.

Notification to Interested Parties

We are issuing and publishing these final results of review and this notice in accordance with sections 751(a)(1) and 777(i)(1) of the Act, and 19 CFR 351.213(h) and 351.221(b)(5).

Dated: March 10, 2025.
Christopher Abbott,
Deputy Assistant Secretary for Policy and Negotiations, performing the non-exclusive functions and duties of the Assistant Secretary for Enforcement and Compliance.

Appendix—List of Topics Discussed in the Issues and Decision Memorandum

I. Summary

II. Background

III. Scope of the Order

IV. Changes Since the Preliminary Results

V. Discussion of the Issues

Comment 1: Whether Commerce Should Correct Its Duty Drawback Calculation

Comment 2: Whether Commerce's Adjustment to Borusan's Cost for Unpaid Duties Must Be Consistent With Its Duty Drawback Methodology

Comment 3: Whether Commerce Should Revise Its Application of the Quarterly Cost Methodology

Comment 4: Whether Commerce's Application of its Differential Pricing Methodology is Contrary to Law

Comment 5: Whether Commerce Should Correct an Incorrect Month Reference in Its Program

Comment 6: Whether Commerce Should Use Borusan's Revised Databases

VI. Recommendation

[FR Doc. 2025-04256 Filed 3-14-25; 8:45 am]

BILLING CODE 3510-DS-P